NUCLEAR REGULATORY COMMISSION

[NRC-2018-0001]

Sunshine Act Meeting Notice

DATES: Weeks of February 19, 26, March 5, 12, 19, 26, 2018.

PLACE: Commissioners' Conference Room, 11555 Rockville Pike, Rockville, Maryland.

STATUS: Public and Closed.

Week of February 19, 2018

There are no meetings scheduled for the week of February 19, 2018.

Week of February 26, 2018—Tentative

There are no meetings scheduled for the week of February 26, 2018.

Week of March 5, 2018—Tentative

Thursday, March 8, 2018

10:00 a.m.—Meeting with the Advisory Committee on the Medical Uses of Isotopes (Public Meeting) (Contact: Sophie Holiday: 301-415-7865)

This meeting will be webcast live at the Web address— http://www.nrc.gov/.

Week of March 12, 2018—Tentative

There are no meetings scheduled for the week of March 12, 2018.

Week of March 19, 2018—Tentative

There are no meetings scheduled for the week of March 19, 2018.

Week of March 26, 2018—Tentative

There are no meetings scheduled for the week of March 26, 2018.

* * * * *

The schedule for Commission meetings is subject to change on short notice. For more information or to verify the status of meetings, contact Denise McGovern at 301-415-0681 or via email at Denise.McGovern@nrc.gov.

* * * * *

The NRC Commission Meeting Schedule can be found on the internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Patricia.Jimenez@nrc.gov.

Dated: February 14, 2018.
Denise L. McGovern,
Policy Coordinator, Office of the Secretary.

[FR Doc. 2018-04722 Filed 3-6-18; 11:15 am]

BILLING CODE 7590-01-P